DEPARTMENT OF TRANSPORTATION

Office of the Secretary

Reports, Forms, and Recordkeeping Requirements; Agency Information Collection Activity Under OMB Review

AGENCY: Office of the Secretary, DOT.

ACTION: Notice and request for comments.

SUMMARY: In accordance with the Paperwork Reduction Act of 1995 (44 U.S.C. Chapter 35, as amended), this notice announces the Department of Transportation's (DOT) intention to request the extension of a previously approved collection.

DATES: Comments on this notice must be received by August 31, 2001.

ADDRESSES: Policy and Information Team (HEPR), Federal Highway Administration, U.S. Department of Transportation, 400 Seventh Street, SW., Washington, DC 20590.

FOR FURTHER INFORMATION CONTACT: James E. Ware, Policy and Information Team, Office of Real Estate Services (HEPR), Federal Highway Administration, U.S. Department of Transportation, Room 3221, 400 Seventh Street, SW., Washington, DC 20590, (202) 366-2019

SUPPLEMENTARY INFORMATION: Title: Relocation Assistance and Real Property Acquisition Regulations For Federal and Federally Assisted Programs.

OMB Number: 2105-0508.

Expiration Date: September 30, 2001.

Type of Request: Extension of a previously approved collection.

Affected Public: Federal Government, State, Local or Tribal Government, individuals, business, farms and not-for-profit institutions.

Abstract: This regulation implements amendments to 42 U.S.C. 4601 et. seq. concerning acquisition of real property and relocation assistance for displaced persons for Federal and federally-assisted programs. It prohibits the provision of relocation assistance and payments to persons not legally in the United States (with certain exceptions).

Respondents: State highway agencies, local government highway agencies, and airport sponsors receiving financial assistance for expenditures of Federal funds on acquisition and relocation payments and required services to displaced persons.

Estimated Number of Respondents: 1,443 for file maintenance and 52 state highway agencies for statistical reports.

Average Annual Burden Per Respondent: 8.5 hours.

Estimated Total Burden on Respondents: 29,043 hours.

These information collections are available for inspection at the Office of Real Estate services, Federal Highway Administration, Department of Transportation, at the address above.

Comments are invited on: (a) Whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice, will be summarized and included in the request for OMB approval. All comments will also become a matter of public record.

Issued in Washington, DC on June 26, 2001.
Randall Bennett,
Director, Office of Aviation Analysis.

[FR Doc. 01-16601 Filed 6-29-01; 8:45 am]

BILLING CODE 4910-62-P